ENVIRONMENTAL PROTECTION AGENCY

[ER-FRL-6697-4]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in the Federal Register dated April 6, 2007 (72 FR 17156).

Draft EISs

EIS No. 20070367, ERP No. D-AFS-A65177-00

National Forest System Land Management Planning, Implementation, Proposed Land Management Planning Rule at 36 CFR Part 219 to Finish Rulemaking.

Summary: EPA expressed environmental concerns about annual monitoring, and how the proposed rule would ensure that it would be conducted. In addition, the final EIS should clarify under what circumstances the public will receive notification for changes in monitoring plans/strategy.

Rating EC2.

EIS No. 20070550, ERP No. D-FHW-F40441-MN

US-14 Reconstruction Project, Improvement to Truck Highway 14 from Front Street in New Ulm to Nicollet County Road 6 in North Mankato Brown and Nicollet Counties, MN.

Summary: EPA expressed environmental concerns about impacts to riparian forested wetlands and surface water quality, and requested additional information on mitigation areas and the corridor preservation plan.

Rating EC2.

EIS No. 20070555, ERP No. D-DHS-K80050-CA

U.S. Border Patrol San Diego Sector, Proposed Construction, Operation, and Maintenance of Tactical Infrastructure, San Diego County, CA.

Summary: EPA expressed environmental objections because of the proposed filling of two riparian corridors and has concerns about erosion impacts. EPA recommended avoiding fill in these canyons, avoiding fence construction on steep slopes, and alternatives to pedestrian fencing across streams.

Rating EO2.

EIS No. 20080025, ERP No. D-FTA-G59004-TX

Northwest Corridor Light Rail Transit Line (LRT) to Irving /Dallas/Fort Worth International Airport, Construction, Dallas County, TX.

Summary: EPA does not object to the proposed action.

Rating LO.

EIS No. 20080031, ERP No. D-AFS-F65069-MN

Glacier Project, To Maintain and Promote Native Vegetation, Communities that are Diverse, Productive, Healthy, Implementation, Superior National Forest, Kawishiwi Ranger District, St. Louis and Lake Counties, MN.

Summary: EPA does not object to the action alternatives proposed.

Rating LO.

EIS No. 20070450, ERP No. DS-WPA-J08026-00

Big Stone II Power Plant and Transmission Project, Addresses the Impacts of Changes to the Proposed Action relative to Cooling Alternatives and the Use of Groundwater as Backup Water Source, U.S. Army COE Section 10 and 404 Permits, Grant County, SD and Big Stone County, MN.

Summary: EPA expressed environmental concerns about ground water impacts, and requested a detailed assessment of the wetland and stream-crossing impacts of the transmission line corridors and how mercury emissions will be addressed.

Rating EC2.

EIS No. 20070547, ERP No. DS-COE-G39044-TX

Central City Project, Proposed Modification to the Authorized Projects which provides Flood Damage Reduction, Habitat Improvement, Recreation and Urban Revitalization, Upper Trinity River Central City, Upper Trinity River Basin, Trinity River, TX.

Summary: No formal comment letter was sent to the preparing agency.

Rating NC.

Final EISs

EIS No. 20080036, ERP No. F-GSA-J80047-CO

Denver Federal Central Site Plan Study, Master Site Plan, Implementation, City of Lakewood, Jefferson County, CO.

Summary: EPA's previous concerns have been resolved; therefore, EPA does not object to the proposed action.

EIS No. 20080056, ERP No. F-AFS-L65530-AK

Tonga's Land and Resource Management Plan, Plan Amendment, Implementation, Tonga's National Forest, AK.

Summary: The final EIS addressed EPA's concerns; therefore, EPA does not object to the project.

Dated: February 25, 2008.
Robert W. Hargrove,
Director, NEPA Compliance Division, Office of Federal Activities.

[FR Doc. E8-6422 Filed 3-27-08; 8:45 am]

BILLING CODE 6560-50-P